DEPARTMENT OF LABOR

Employment and Training Administration

[TA-W-52,333]

Kline Iron and Steel Company, Inc., West Columbia, SC; Notice of Termination of Investigation

Pursuant to section 221 of the Trade Act of 1974, an investigation was initiated on July 16, 2003, in response to a worker petition which was filed by a company official on behalf of workers at Kline Iron and Steel Company, Inc., West Columbia, South Carolina (TA-W-52,333).

The petitioner has requested that the petition be withdrawn. Consequently, further investigation in this case would serve no purpose, and the investigation has been terminated.

Signed in Washington, DC, this 6th day of August, 2003.
Linda G. Poole,
Certifying Officer, Division of Trade Adjustment Assistance.

[FR Doc. 03-21016 Filed 8-15-03; 8:45 am]

BILLING CODE 4510-30-P